DEPARTMENT OF JUSTICE

Notice of Lodging of Proposed Consent Decree

In accordance with Departmental Policy, 28 CFR 50.7, notice is hereby given that a proposed Consent Decree in United States v. James Bult, Case No. 1:17-cv-04574, was lodged with the United States District Court for the Northern District of Illinois, Eastern Division on April 10, 2018.

This proposed Consent Decree concerns a complaint filed by the United States against Defendant Mr. James Bult, pursuant to 33 U.S.C. 1311(a), 1319(b) and 1319(d), to obtain injunctive relief from and impose civil penalties against the Defendant for violating the Clean Water Act by discharging pollutants without a permit into waters of the United States. The proposed Consent Decree resolves these allegations by requiring the Defendant to restore the impacted areas, perform mitigation, and pay a civil penalty.

The Department of Justice will accept written comments relating to this proposed Consent Decree for thirty (30) days from the date of publication of this Notice. Please address comments to Mr. Kurt N. Lindland, Assistant United States Attorney for the United States Attorney's Office, Northern District of Illinois, and Mr. Scott A. Schachter, Assistant Section Chief for the United States Department of Justice, Environment and Natural Resources Division, Environmental Defense Section, Post Office Box 7611, Washington, DC 20044, and refer to United States v. James Bult, DJ #90-5-1-1-21133.

The proposed Consent Decree may be examined at the Clerk's Office, United States District Court for the Northern District of Illinois, Eastern Division, 219 South Dearborn Street, Chicago, IL 60604. In addition, the proposed Consent Decree may be examined electronically at http://www.justice.gov/enrd/consent-decrees.

Cherie Rogers,
Assistant Section Chief, Environmental Defense Section, Environment and Natural Resources Division.

[FR Doc. 2018-08241 Filed 4-19-18; 8:45 am]

BILLING CODE 4410-15-P